DEPARTMENT OF COMMERCE

International Trade Administration

[A-570-038]

Certain Amorphous Silica Fabric From the People's Republic of China: Rescission of Antidumping Duty Administrative Review; 2018-2019

AGENCY: Enforcement and Compliance, International Trade Administration, Department of Commerce.

SUMMARY: The Department of Commerce (Commerce) is rescinding the administrative review of the antidumping duty order on certain amorphous silica fabric (silica fabric) from the People's Republic of China (China) for the period March 1, 2018, through February 28, 2019, based on the timely withdrawal of the request for review.

DATES: Applicable August 23, 2019.

FOR FURTHER INFORMATION CONTACT: Julie Geiger, AD/CVD Operations, Office VI, Enforcement and Compliance, International Trade Administration, U.S. Department of Commerce, 1401 Constitution Avenue NW, Washington, DC 20230; telephone: (202) 482-2057.

Background

On March 5, 2019, Commerce published in the Federal Register a notice of opportunity to request an administrative review of the antidumping duty order on silica fabric from China for the period of review covering March 1, 2018, through February 28, 2019.¹ On April 1, 2019, Auburn Manufacturing, Inc. (AMI), a domestic producer of silica fabric, timely filed a request for review, in accordance with section 751(a) of the Tariff Act of 1930, as amended (the Act), and 19 CFR 351.213(b).² Pursuant to this request, and in accordance with section 751(a) of the Act and 19 CFR 351.221(c)(1)(i), we initiated an administrative review of 81 companies.³ On July 8, 2019, AMI timely filed a withdrawal of its request for the administrative review of all 81 companies.⁴

¹ See Antidumping or Countervailing Duty Order, Finding, or Suspended Investigation; Opportunity to Request Administrative Review, 84 FR 7877 (March 5, 2019).

² See AMI's Letter, “Certain Amorphous Silica Fabric from the People's Republic of China,” dated April 1, 2019.

³ See Initiation of Antidumping and Countervailing Duty Administrative Reviews, 84 FR 24743 (May 29, 2019). Commerce published a correction to five companies' names in July. See Initiation of Antidumping and Countervailing Duty Administrative Reviews, 84 FR 33739 (July 15, 2019).

⁴ See AMI's Letter, “Certain Amorphous Silica Fabric from the People's Republic of China: Withdrawal of Petitioners' Request for Administrative Review of the Antidumping Duty Order,” dated July 8, 2019.

Rescission of Review

Pursuant to 19 CFR 351.213(d)(1), the Secretary will rescind an administrative review, in whole or in part, if the party that requested the review withdraws the request within 90 days of the date of publication of the notice of initiation of the requested review. As noted above, AMI, the only party to file a request for review, withdrew this request by the 90-day deadline. Accordingly, we are rescinding the administrative review of the antidumping duty order on silica fabric from China covering March 1, 2018, through February 28, 2019, in its entirety.

Assessment

Commerce will instruct U.S. Customs and Border Protection (CBP) to assess antidumping duties on all appropriate entries of silica fabric from China. Antidumping duties shall be assessed at rates equal to the cash deposit of estimated antidumping duties required at the time of entry, or withdrawal from warehouse, for consumption, in accordance with 19 CFR 351.212(c)(1)(i). Commerce intends to issue appropriate assessment instructions to CBP 15 days after the date of publication of this notice in the Federal Register.

Notification to Importers

This notice serves as a reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification Regarding Administrative Protective Orders

This notice also serves as a reminder to all parties subject to administrative protective order (APO) of their responsibility concerning the disposition of proprietary information disclosed under APO in accordance with 19 CFR 351.305. Timely written notification of the return/destruction of APO materials or conversion to judicial protective order is hereby requested. Failure to comply with the regulations and terms of an APO is a violation which is subject to sanction.

This notice is issued and published in accordance with sections 751(a)(1) and 777(i)(1) of the Act, and 19 CFR 351.213(d)(4).

Dated: August 19, 2019.
James Maeder,
Deputy Assistant Secretary for Antidumping and Countervailing Duty Operations.

[FR Doc. 2019-18190 Filed 8-22-19; 8:45 am]

BILLING CODE 3510-DS-P